DEPARTMENT OF AGRICULTURE

Forest Service

Pacific Northwest Region; Oregon; Land Management Plan Amendment; Forest Management Direction for Large Diameter Trees in Eastern Oregon

AGENCY: Forest Service, Agriculture (USDA).

ACTION: Notice to extend the public comment period for land management plan amendment.

SUMMARY: The Pacific Northwest Region of the Forest Service is extending the public comment period for the Preliminary Environmental Assessment (EA) for Forest Management Direction for Large Diameter Trees in Eastern Oregon, a proposed amendment to land management plans for the Deschutes, Fremont-Winema, Malheur, Ochoco, Umatilla, and Wallowa-Whitman National Forests.

DATES: Comments concerning the scope of the analysis must be received by October 13, 2020.

ADDRESSES: Individuals and entities are encouraged to submit comments via webform at https://cara.ecosystem-management.org/Public/CommentInput?project=58050. Comments may also be sent via email to SM.FS.EScreens21@usda.gov. Hardcopy letters must be submitted to the following address: Shane Jeffries, Forest Supervisor, Ochoco National Forest, 3160 NE Third Street, Prineville, OR 97754. For those submitting hand-delivered comments, a secure drop box is located by the mailboxes at the Ochoco National Forest office.

FOR FURTHER INFORMATION CONTACT: Emily Platt, Team Leader, at SM.FS.EScreens21@usda.gov or at 541-416-6500. Individuals who use telecommunication devices for the deaf (TDD) may call the Federal Information Relay Service (FIRS) at 1-800-877-8339 between 8:00 a.m. and 8:00 p.m., Eastern Time, Monday through Friday.

SUPPLEMENTARY INFORMATION:

Comment and Objection Information

The Notice of Intent (85 FR 48500) appeared in the Federal Register on August 11, 2020. The Preliminary EA and other related documents are available for comment on the project website at https://www.fs.usda.gov/project/?project=58050. Additional information regarding this proposal can found at https://go.usa.gov/xvV4X. As provided for at 36 CFR 219.16, the responsible official has combined the notifications for initiating the plan amendment and inviting comments on the proposed plan amendment and alternatives.

This EA is subject to Forest Service regulation 36 CFR 219, Subpart B, known as the administrative review, or objection, process. Only individuals or entities who submit specific written comments during the designated comment period will be eligible to participate in the objection process. Specific written comments should be within the scope of the proposed action, have a direct relationship to the proposed action, and include supporting reasons for the Responsible Official to consider. Comments submitted anonymously will be accepted and considered but will not meet the requirements to be eligible for administrative review. Comments received in response to this solicitation, including names (and addresses, if included) of those who comment, will be part of the public record for this proposed action.

Tina Johna Terrell,
Associate Deputy Chief, National Forest System.

[FR Doc. 2020-19803 Filed 9-4-20; 8:45 am]

BILLING CODE 3411-15-P